ENVIRONMENTAL PROTECTION AGENCY

[OPP-2003-0357, FRL-7826-3]

Agency Information Collection Activities; Submission to OMB; Comment Request; EPA ICR No. 0155.08; OMB Control No. 2070-0029; Certification of Pesticide Applicators

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Certification of Pesticide Applicators; EPA ICR No. 0155.08; OMB Control No. 2070-0029. The ICR, which is abstracted below, describes the nature of the information collection activity and its expected burden and costs.

DATES: Additional comments may be submitted on or before November 12, 2004.

FOR FURTHER INFORMATION CONTACT: Nathanael Martin, Field and External Affairs Division (7506C), Office of Pesticide Programs, Environmental Protection Agency, 1200 Pennsylvania Ave., NW., Washington, DC 20460; telephone number: (703) 305-6475; fax number: (703) 305-5884; e-mail address: martin.nathanael@epa.gov.

ADDRESSES: Submit your comments, referencing docket ID number OPP-2003-0357, to (1) EPA online using EDOCKET (our preferred method), by email to opp-docket@epa.gov, or by mail to: Public Information and Records Integrity Branch (PIRIB), Office of Pesticide Programs (OPP), Environmental Protection Agency, Mailcode: 7502C, 1200 Pennsylvania Ave., NW., Washington, DC, 20460, and (2) OMB at: Office of Information and Regulatory Affairs, Office of Management and Budget (OMB), Attention: Desk Officer for EPA, 725 17th Street, NW., Washington, DC 20503.

SUPPLEMENTARY INFORMATION: EPA has submitted the following ICR to OMB for review and approval according to the procedures prescribed in 5 CFR 1320.12. The Federal Register document, required under 5 CFR 1320.8(d), soliciting comments on this collection of information was published on March 31, 2004 (69 FR 16917). EPA received three comments on this ICR during the 60-day comment period and they are addressed in the ICR.

EPA has established a public docket for this ICR under Docket ID No. OPP-2003-0357, which is available for public viewing at the Public Information and Records Integrity Branch (PIRIB), Rm. 119, Crystal Mall #2, 1801 Bell St., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. Please note, EPA's policy is that public comments, whether submitted electronically or on paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

ICR Title: Certification of Pesticide Applicators

ICR Status: This is a request for extension of an existing approved collection that is currently scheduled to expire on October 31, 2004. EPA is asking OMB to approve this ICR for three years. Under 5 CFR 1320.12(b)(2), the Agency may continue to conduct or sponsor the collection of information while the submission is pending at OMB.

Abstract: FIFRA allows the EPA to classify a pesticide as “restricted use” if the pesticide meets certain toxicity or risk criteria. Restricted use pesticides, because of their potential to harm human health or the environment, may be applied only by a certified applicator or by a person under the direct supervision of a certified applicator. A person must meet certain standards of competency to become a certified applicator. States can be delegated the certified applicator program, but it must be approved by the Agency before it can be implemented. In non-participating entities, EPA administers the certification program.

An agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

Burden Statement: The annual “respondent” burden for this ICR is estimated to be 4,412 hours. According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number. The OMB control number for this information collection appear at the beginning and the end of this document. In addition OMB control numbers for EPA's regulations, after initial display in the final rule, are listed in 40 CFR part 9.

The following is a summary of the burden estimates taken from the ICR:

Respondents/affected entities: You may be affected by this action if you run an EPA approved certified pesticide applicator program for restricted use pesticides or are a certified pesticide applicator using restricted use pesticides that must comply with requirements of Section 11 of the Federal Insecticide, Fungicide, and Rodenticide Act and 40 CFR part 171.

Estimated total number of potential respondents: 424,398.

Frequency of response: As needed or annually, depending on the category of respondent.

Estimated total/average number of responses for each respondent: 1-3.

Estimated total annual burden hours: 1,311,368.

Estimated total annual costs: $25,108,623.

Changes in the ICR since the last approval:

The estimated paperwork burden has increased slightly from 1,285,865 to 1,311,368 hours due to an expected increase in the number of certified commercial applicators participating in the EPA-administered program. EPA will begin administering a private applicator program in the Navajo Indian Country within the next 3 years, thus increasing the number of applicators subject to the information collection activities. The cost burden has risen as well, primarily as a result of inflation from $21,456,058 to $25,108,623.

Dated: September 28, 2004.
Oscar Morales,
Director, Collection Strategies Division.

[FR Doc. 04-22874 Filed 10-8-04; 8:45 am]

BILLING CODE 6560-50-P